DEPARTMENT OF TRANSPORTATION

Coast Guard

33 CFR Part 165

[CGD01-99-198]

RIN 2115-AA97

Safety Zone: Parade of Tall Ships Newport 2000, Newport, RI

AGENCY: Coast Guard, DOT.

ACTION: Temporary final rule.

SUMMARY: The Coast Guard is establishing a temporary moving safety zone around vessels participating in the Newport, RI, parade of Tall Ships on July 2, 2000. The moving safety zone will extend two hundred (200) yards ahead of the lead vessel to two hundred (200) yards astern of the last vessel in the parade, and two hundred (200) yards abeam of each parading vessel along the designated parade route. The safety zone is needed to protect each of the Tall Ships, which will have limited maneuverability, from damage as well as protect passing and spectator vessels. Entry into this zone will be prohibited unless authorized by the Captain of the Port, Providence, Rhode Island.

DATES: This rule is effective from 10 a.m. until 4 p.m. on July 2, 2000.

ADDRESSES: Comments and material received from the public as well as documents indicated in this preamble as being available in the docket are available for inspection or copying at Coast Guard Marine Safety Office Providence, 20 Risho Avenue, Providence, Rhode Island 02914 between 8 a.m. and 3 p.m., Monday through Friday, except Federal holidays.

FOR FURTHER INFORMATION CONTACT: CWO John W. Winter at Marine Safety Office Providence, (401) 435-2335.

SUPPLEMENTARY INFORMATION:

Regulatory Information

On March 22, 2000, we published a notice of proposed rulemaking (NPRM) entitled Parade of Tall Ships Newport 2000, Newport, RI in the Federal Register (65 FR 15283). We received no comments. No public hearing was requested, and none was held.

Background and Purpose

This rule is needed to ensure the safe navigation of the Tall Ships and other smaller sailing vessels participating in a parade of sail on Sunday, July 2, 2000, as well as the safety of spectator craft. The entire parade event is scheduled to last approximately six hours, beginning at 10 a.m. and ending at 4 p.m. The parading vessels will transit outbound from Newport Harbor, then north through the East Passage, Narragansett Bay, underneath the Newport Bridge, westward around Gould Island, and then southbound out to sea.

The parade of sail route extends through the East Passage of Narragansett Bay and passes through the following points: (see NOAA Charts(s) #13218, 13221, 13223).

Latitude | Longitude
41°30′18″N | 71°20′58″W
41°31′43″N | 71°20′00″W
41°33′29″N | 71°19′14″W
41°33′29″N | 71°20′55″W
41°32′19″N | 71°21′12″W
41°28′45″N | 71°20′45″W
41°27′44″N | 71°22′24″W

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

This safety zone involves only the southeast portion of Narragansett Bay and will shut down the East passage to commercial and recreation traffic during the event. The effect of this regulation will not be significant because this rule would be in effect for only 6 hours. Recreational vessel traffic could pass safely around the safety zone through the West passage, and maritime advisories will be made well in advance allowing large commercial traffic to schedule around the event.

Small Entities

Under the Regulatory Flexibility Act (5 U.S.C. 601-612), we considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a small portion of Narragansett Bay from 10 a.m. and 4 p.m. on July 2, 2000.

This safety zone will not have a significant economic impact on a substantial number of small entities for the following reasons: This rule will only be in effect for 6 hours; recreational vessel traffic can pass safely around the safety zone through the West passage; and, before the effective period, we will issue maritime advisories widely available to users of the bay, allowing large commercial traffic ample time to schedule around the event.

Assistance for Small Entities

Under section 213(a) of the Small Business Regulatory Enforcement Fairness Act of 1996 (Pub. L. 104-121), we offered to assist small entities in understanding this rule so that they can better evaluate its effects on them and participate in the rulemaking. No requests for assistance were received. Small businesses may send comments on the actions of the Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule will call for no new collection of information under the Paperwork Reduction Act of 1995 (44 U.S.C. 3501-3520.).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets the standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard has considered the environmental impact of implementing this rule and concluded that, under figure 2-1, paragraph 34(g), of Commandant Instruction M16475.lC, this rule is categorically excluded from further environmental documentation. A “Categorical Exclusion Determination” is available in the docket where indicated under ADDRESSES.

List of Subjects in 33 CFR Part 165

Harbors, Marine safety, Navigation (water), Reports and Recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C.1231; 50 U.S.C. 191; 33 CFR 1.05(g), 6.04-1, 6.04-6 and 160.5; 49 CFR 1.46.

2. Add temporary § 165.T01-198 to read as follows:

§ 165.T01-198 Safety Zone: Parade of Tall Ships Newport 2000, Rhode Island, Lower Narragansett Bay, East Passage.

(a) Location. A moving safety zone 200 yards ahead of the lead vessel in the parade, 200 yards astern of the last vessel in the parade, and 200 yards abeam of each vessel participating in the Tall Ships Newport 2000 parade of sail. The parade of sail route extends through the East Passage of Narragansett Bay and passes through the following points: (see NOAA Charts(s) #13218, 13221, 13223)

Latitude | Longitude
41°30′18″N | 71°20′58″W
41°31′43″N | 71°20′00″W
41°33′29″N | 71°19′14″W
41°33′29″N | 71°20′55″W
41°32′19″N | 71°21′12″W
41°28′45″N | 71°20′45″W
41°27′44″N | 71°22′24″W

(b) Effective period. Paragraph (a) of this section is effective between 10 a.m. and 4 p.m. on Sunday, July 2, 2000. Departure time is dependent on the tide, weather and granting of authority for departure by the Captain of the Port, Providence.

(c) Regulations. (1) The general regulations governing safety zones contained in 33 CFR 165.23 apply.

(2) All persons and vessels shall comply with the instructions of the Coast Guard Captain of the Port or the designated on-scene-patrol personnel. These personnel comprise commissioned, warrant, and petty officers of the Coast Guard. Upon being hailed by siren, radio, flashing light, or other means, the operator of the vessel shall proceed as directed.

Dated: May 22, 2000.
Peter A. Popko,
Captain, U.S. Coast Guard, Captain of the Port, Marine Safety Office Providence.

[FR Doc. 00-13815 Filed 6-1-00; 8:45 am]

BILLING CODE 4910-15-U